DEPARTMENT OF ENERGY

Federal Energy Regulatory Commission

Notice of Staff Attendance at the Southwest Power Pool Regional Entity Trustee, Regional State Committee, Members' Committee and Board of Directors' Meetings

The Federal Energy Regulatory Commission (Commission) hereby gives notice that members of its staff may attend the meetings of the Southwest Power Pool, Inc. Regional Entity Trustee (RET), Regional State Committee (RSC), Members' Committee and Board of Directors as noted below. Their attendance is part of the Commission's ongoing outreach efforts.

All meetings will be held at the Doubletree Hotel, 4099 Valley View Lane, Dallas, TX 75244. The phone number is (972) 385-9000. All meetings are Central Time.

SPP RET

January 30, 2017 (8:00-5:00 p.m.)

SPP RSC

January 30, 2017 (1:00 p.m.-5:00 p.m.)

SPP Members/Board of Directors

January 31, 2017 (8:00 a.m.-3:00 p.m.)

The discussions may address matters at issue in the following proceedings:

Docket No. ER11-1844, Midcontinent Independent System Operator, Inc.

Docket No. ER12-1179, Southwest Power Pool, Inc.

Docket No. ER14-2850, Southwest Power Pool, Inc.

Docket No. ER15-1499, Southwest Power Pool, Inc.

Docket No. ER15-1775, Southwest Power Pool, Inc.

Docket No. ER15-1777, Southwest Power Pool, Inc.

Docket No. ER15-1943, Southwest Power Pool, Inc.

Docket No. ER15-1976, Southwest Power Pool, Inc.

Docket No. ER15-2028, Southwest Power Pool, Inc.

Docket No. ER15-2115, Southwest Power Pool, Inc.

Docket No. ER15-2324, Southwest Power Pool, Inc.

Docket No. ER15-2347, Southwest Power Pool, Inc.

Docket No. ER15-2351, Southwest Power Pool, Inc.

Docket No. ER15-2356, Southwest Power Pool, Inc.

Docket No. EL16-91, Southwest Power Pool, Inc.

Docket No. EL16-108, Tilton Energy v. Midcontinent Independent System Operator, Inc.

Docket No. EL16-110, Southwest Power Pool, Inc.

Docket No. ER16-13, Southwest Power Pool, Inc.

Docket No. ER16-204, Southwest Power Pool, Inc.

Docket No. ER16-209, Southwest Power Pool, Inc.

Docket No. ER16-791, Southwest Power Pool, Inc.

Docket No. ER16-829, Southwest Power Pool, Inc.

Docket No. ER16-846, Southwest Power Pool, Inc.

Docket No. ER16-862, Southwest Power Pool, Inc.

Docket No. ER16-863, Southwest Power Pool, Inc.

Docket No. ER16-932, Southwest Power Pool, Inc.

Docket No. ER16-1211, Midcontinent Independent System Operator, Inc.

Docket No. ER16-1305, Southwest Power Pool, Inc.

Docket No. ER16-1351, Westar Energy, Inc.

Docket No. ER16-1314, Southwest Power Pool, Inc.

Docket No. ER16-1341, Southwest Power Pool, Inc.

Docket No. ER16-1546, Southwest Power Pool, Inc.

Docket No. ER16-1797, Midcontinent Independent System Operator, Inc.

Docket No. ER16-1799, Southwest Power Pool, Inc.

Docket No. ER16-1912, Southwest Power Pool, Inc.

Docket No. ER16-1945, Southwest Power Pool, Inc.

Docket No. ER16-2522, Southwest Power Pool, Inc.

Docket No. ER16-2523, Southwest Power Pool, Inc.

Docket No. EL17-11, Alabama Power Co.

Docket No. EL17-21, Kansas Electric Co.

Docket No. EL17-29, American Municipal Power

Docket No. ER17-236, Southwestern Public Service Co.

Docket No. ER17-238, Southwestern Public Service Co.

Docket No. ER17-253, Southwest Power Pool, Inc.

Docket No. ER17-264, Southwest Power Pool, Inc.

Docket No. ER17-267, Southwestern Public Service Co.

Docket No. ER17-300, Southwest Power Pool, Inc.

Docket No. ER17-353, Southwest Power Pool, Inc.

Docket No. ER17-358, Southwest Power Pool, Inc.

Docket No. ER17-426, Southwest Power Pool, Inc.

Docket No. ER17-427, Southwest Power Pool, Inc.

Docket No. ER17-428, Southwest Power Pool, Inc.

Docket No. ER17-469, Southwest Power Pool, Inc.

Docket No. ER17-483, Southwest Power Pool, Inc.

Docket No. ER17-587, Southwest Power Pool, Inc.

Docket No. ER17-589, Southwest Power Pool, Inc.

Docket No. ER17-591, Southwest Power Pool, Inc.

Docket No. ER17-722, ITC Midwest, LLC

Docket No. ER17-738, Southwest Power Pool, Inc.

Docket No. ER17-739, Southwest Power Pool, Inc.

Docket No. ER17-745, ITC Midwest, LLC

Docket No. ER17-749, Southwest Power Pool, Inc.

Docket No. ER17-762, Southwest Power Pool, Inc.

These meetings are open to the public.

For more information, contact Patrick Clarey, Office of Energy Market Regulation, Federal Energy Regulatory Commission at (317) 249-5937 or patrick.clarey@ferc.gov.

Dated: January 18, 2017.
Kimberly D. Bose,
Secretary.

[FR Doc. 2017-01672 Filed 1-24-17; 8:45 am]

BILLING CODE 6717-01-P